FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. chapter 409 and 46 CFR part 515).

Persons knowing of any reason why the following applicants should not receive a license are requested to contact the Office of Transportation Intermediaries, Federal Maritime Commission, Washington, DC 20573.

Non-Vessel Operating Common Carrier Ocean Transportation Intermediary Applicants

Atlantida International Inc., 5911 Shirley Lane, Humble, TX 77396, Officer: Marco T. Fuentes, President (Qualifying Individual).

Accord Relocations, 67 Lockheed Avenue, Las Vegas, NV 89183, Officer: Tiffany-Michele Nakano, President (Qualifying Individual).

Transportes Zuleta Express, Inc., 3531 North Andrews Avenue, Fort Lauderdale, FL 33309, Officers: Cecilia Maritza Canela, Secretary (Qualifying Individual), Milton A. Valle, President.

Green Line Global International Corporation, 12610 Yukon Avenue, Hawthorne, CA 90250, Officers: Lupe A. Hernandez, Chairman (Qualifying Individual), Batista Hernandez, Vice President.

All West Coast Shipping Inc., 1849 Silkwood Lane, San Jose, CA 95131, Officers: Maria Ayr, Vice President (Qualifying Individual), Andrey Naumov, President.

Non-Vessel Operating Common Carrier and Ocean Freight Forwarder Transportation Intermediary Applicant

ES Express Cargo & Multiservices, Inc., dba ES Express Cargo EL Salvador Express Cargo, 1325 NW. 93 Ct. B-112, Miami, FL 33172, Officer: Edward F. Bonilla, Export Manager (Qualifying Individual).

Ocean Freight Forwarder—Ocean Transportation Intermediary Applicants

TLC Shipping And Delivery, Inc., 957 Utica Avenue, Store #1, Brooklyn, NY 11203, Officer: Trevor A. Deane, President (Qualifying Individual).

GSN Worldwide Logistics LLC, 1 Reler Lane, 1A, Somerset, NJ 08873, Officer: Rajiv Jaidka, President (Qualifying Individual).

Dated: August 10, 2007.
Bryant L. VanBrakle,
Secretary.

[FR Doc. E7-15992 Filed 8-14-07; 8:45 am]

BILLING CODE 6730-01-P